DEPARTMENT OF THE INTERIOR

Bureau of Land Management

[NV-930-1430-ET; N-75879]

Notice of Proposed Withdrawal and Opportunity for Public Meeting; Nevada

AGENCY: Bureau of Land Management, Interior.

ACTION: Notice.

SUMMARY: The Bureau of Land Management proposes to withdraw a 208.72 acres of public land from surface entry and mining for a period of 20 years to protect pubic health and safety from land contaminated by previous mining and milling operations. This notice closes the land from surface entry and mining for up to 2 years while various studies and analyses are made to make a final decision on the withdrawal application.

DATES: Comments and requests for a meeting should be received on or before December 10, 2002.

ADDRESSES: Comments and meeting requests should be sent to the Nevada State Director, BLM, 1340 Financial Blvd., P.O. Box 12000, Reno, Nevada 89520-0006.

FOR FURTHER INFORMATION CONTACT: Dennis J. Samuelson, BLM Nevada State Office, 775-861-6532.

SUPPLEMENTARY INFORMATION: On August 9, 2002, a petition was approved allowing the Bureau of Land Management to file an application to withdraw the following described public land from settlement, sale, location, or entry under the general land laws, including the mining laws, subject to valid existing rights:

Mount Diablo Meridian

T 21 N., R. 23 E., Sec. 32, lots 9, 10, 14, 15, and 16.

The area described contains 208.72 acres in Lander County.

The purpose of the proposed withdrawal is to protect the public health and safety as well as to prevent the filing of mining and mill site claims which would interfere with the reclamation of the Olinghouse Mine site. The Olinghouse Mine was the site of mining and milling operations for many years. The area contains two open pits, haul roads, heap leach pad, buildings, and ponds that can be hazardous to the public. The Bureau of Land Management intends to reclaim the site. A withdrawal would preclude the filing of mining and mill site claims while the site is being reclaimed.

For a period of 90 days from the date of publication of this notice, all persons who wish to submit comments, suggestions, or objections in connection with the proposed withdrawal may present their views in writing to the Nevada State Director of the Bureau of Land Management.

Notice is hereby given that an opportunity for a public meeting is afforded in connection with the proposed withdrawal. All interested persons who desire a public meeting for the purpose of being heard on the proposed withdrawal must submit a written request to the Nevada State Director within 90 days from the date of publication of this notice. Upon determination by the authorized officer that a public meeting will be held, a notice of the time and place will be published in the Federal Register at least 30 days before the scheduled date of the meeting. The application will be processed in accordance with the regulations set forth in 43 CFR part 2300.

For a period of 2 years from the date of publication of this notice in the Federal Register, the lands will be segregated as specified above unless the application is denied or canceled or the withdrawal is approved prior to that date.

Other uses which will be permitted during this segregative period are rights-of-way, leases, and permits.

Dated: August 14, 2002.
Jim Stobaugh,
Lands Team Lead.

[FR Doc. 02-23042 Filed 9-10-02; 8:45 am]

BILLING CODE 4310-HC-P